DEPARTMENT OF HOMELAND SECURITY

U.S. Citizenship and Immigration Services

[CIS No. 2550-14; DHS Docket No. USCIS-2007-0028]

RIN 1615-ZB36

Extension of the Designation of El Salvador for Temporary Protected Status

Correction

In notice document 2015-00031 beginning on page 893 in the issue of Wednesday, January 7, make the following correction:

On page 893, in the third column, in the 7th line, “March 9, 2015March 9, 2015” should read “March 9, 2015”.

[FR Doc. C1-2015-00031 Filed 1-13-15; 8:45 am]

BILLING CODE 1505-01-D